DEPARTMENT OF HEALTH AND HUMAN SERVICES

Agency for Healthcare Research and Quality

Agency Information Collection Activities: Proposed Collection; Comment Request

AGENCY: Agency for Healthcare Research and Quality, Department of Health and Human Services.

ACTION: Notice.

SUMMARY: This notice announces the intention of the Agency for Healthcare Research and Quality (AHRQ) to request that the Office of Management and Budget (OMB) allow the proposed information collection project: “Establishing Benchmarks for the Medical Office Survey on Patient Safety.” In accordance with the Paperwork Reduction Act of 1995, Public Law 104-13 (44 U.S.C. 3506(c)(2)(A)), AHRQ invites the public to comment on this proposed information collection.

DATES: Comments on this notice must be received by November 18, 2008.

ADDRESSES: Written comments should be submitted to: Doris Lefkowitz, Reports Clearance Officer, AHRQ, by e-mail at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

“Establishing Benchmarks for the Medical Office Survey on Patient Safety”.

The ambulatory Medical Office Survey on Patient Safety (SOPS), an adapted version of AHRQ's Hospital Survey on Patient Safety Culture (HSOPSC), was developed in 2005 to measure specific components of patient safety culture in the ambulatory setting. A pilot study (OMB #0935-0131) assessed and refined the psychometric properties of specific survey items, and a final version of SOPS is now ready for public dissemination. However, in order for the survey to be most useful to ambulatory medical offices in identifying areas of relative strength and weakness in patient safety culture, reliable benchmarks to which a practice's responses can be compared need to be established.

AHRQ has determined, through discussions with potential end-users of SOPS, including leaders of physician and other provider groups, that an ambulatory practice is unlikely to have confidence in SOPS benchmarks unless the benchmarking data are based on responses derived from offices with similar characteristics. Office characteristics thought to have a potential effect on SOPS responses include practice size, location, provider specialty, and use of electronic information technology. A separate survey to collect information about these practice characteristics has been developed and was tested and refined as part of the pilot study.

In order to establish SOPS benchmarks that can be tailored with respect to specific practice-related characteristics, survey responses from a large sample of practices stratified by these characteristics are required. AHRQ therefore intends to recruit and administer SOPS to ambulatory medical offices that have been selected on the basis of practice characteristics. In addition, AHRQ intends to collect from these practices evaluative information about administrative barriers and facilitators to survey participation as well as a description of how the office used (or plans to use) the survey results to enhance patient safety culture. These data will inform future efforts by AHRQ to maximize the use of SOPS and the utility/value of survey results to ambulatory practices across the country.

This project is being conducted pursuant to AHRQ's statutory mandates to (1) promote health care quality improvement by conducting and supporting research that develops and presents scientific evidence regarding all aspects of health care, including methods for measuring quality and strategies for improving quality (42 U.S.C. 299(b)(1)(F)) and (2) conduct and support research on health care and on systems for the delivery of such care, including activities with respect to quality measurement and improvement (42 U.S.C. 299a(a)(2)).

Methods of Collection

A purposive sample of 350 outpatient medical offices will be identified and recruited. The goal is for the sample to be proportionately distributed with regard to six practice characteristics: geographical location of offices; office size (number of physicians and employed staff); provider specialty; type of practice ownership; extent to which electronic information tools are used; and demographics of patients being served. All physicians and employed staff in the practices will be asked to complete the SOPS. Additionally, one office manager for the practice will be asked to complete the Office Characteristics Survey. Since higher response rates have been demonstrated when paperbased (compared to electronic) surveys are administered to busy ambulatory clinicians, SOPS will be administered in paper form. Standard non-response follow-up techniques such as reminder postcards and distribution of a second survey will be used. Additionally, all respondents will subsequently be asked to complete a web-based evaluation assessing barriers and facilitators to survey completion, and the intended use(s) of survey data. Individuals and organizations contacted will be assured of the confidentiality of their replies under 42 U.S.C. 924(c).

Estimated Annual Respondent Burden

Exhibit 1 shows the estimated burden hours for the medical offices' time to participate in this one-time data collection. It is anticipated that an average of 20 persons (about 6 physicians and 14 staff) in each of the 350 medical offices will respond to the survey, resulting in 7000 responses (approximately 2,000 physicians and 5,000 staff). The Survey on Patient Safety and the Post-Survey Evaluation will be completed by both physicians and staff, while the Office Characteristics Survey will be completed by the office manager at each of the 350 participating medical offices. Each survey will require approximately 15 minutes to complete. The total annualized burden for the medical offices to participate in this project is estimated to be 3,588 hours.

Exhibit 2 shows the estimated cost burden to participate in this project. The total annualized cost burden, based on the burden hours and hourly rates of the physicians and staff, is estimated at $99,368.

Exhibit 1—Estimated Annualized Burden Hours
Survey name | Number of respondents | Number of responses per respondent | Hours per response | Total burden hours
Survey on Patient Safety (SOPS) | 350 | 20 | 15/60 | 1,750
Office Characteristics Survey | 350 | 1 | 15/60 | 88
Post-Survey Evaluation | 350 | 20 | 15/60 | 1,750
Total | 1,050 | na | na | 3,588

Exhibit 2—Estimated Annualized Cost Burden
Survey name | Number of respondents | Total burden hours | Average hourly wage rate * | Total cost burden
Survey on Patient Safety (SOPS) | 350 | 1,750 | $27.44 | $48,020
Office Characteristics Survey | 350 | 88 | 37.82 | 3,328
Post-Survey Evaluation | 350 | 1,750 | 27.44 | 48,020
Total | 1,050 | 3,588 | na | 99,368
* For the SOPS and Post-Survey Evaluation the wage rate is the national average wage for “healthcare practitioner and technical occupations.” For the Office Characteristics Survey the hourly wage is the national average wage for “medical and health services managers.” National Compensation Survey: Occupational Wages in the United States 2006, U.S. Department of Labor, Bureau of Labor Statistics.

Estimated Annual Costs to the Federal Government

The total cost to the Government for conducting this research will be approximately $340,000. This estimate includes the costs of medical office identification and recruitment; data collection and aggregation; shipping, inputting and cleaning of data; analysis and report writing.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: September 9, 2008.
Carolyn M. Clancy,
Director.

[FR Doc. E8-21822 Filed 9-18-08; 8:45 am]

BILLING CODE 4160-90-M